DEPARTMENT OF DEFENSE

Office of the Secretary

Defense Science Board

AGENCY: Department of Defense.

ACTION: Notice of Advisory Committee Meeting.

SUMMARY: The Defense Science Board (DSB) Task Force Precision Targeting will meet in closed session July 30, 2001, at the Air Combat Command, Langley AFB, VA. The Task Force will examine the full range of the precision weapons targeting in tactical military operations, from target execution, location, and identification through mission execution and damage assessment. Target types will include fixed installations and both transportable and mobile military force elements.

The mission of the Defense Science Board is to advise the Secretary of Defense and the Under Secretary of Defense for Acquisition, Technology & Logistics on scientific and technical matters as they affect the perceived needs of the Department of Defense. The Task Force will review: all planned precision weapons programs and procurements to determine the degree to which these weapons are compatible with targeting requirements for different target classes; the degree to which existing and planned reconnaissance and surveillance assets are used to effectively develop target sets, real time targeting data and perform battle damage assessment under varied degrees of cover, concealment and deception; our ability to identify and precisely locate targets while minimizing false alarms using automatic target recognition techniques and precision location technologies; and our ability to attack moving targets.

In accordance with Section 10(d) of the Federal Advisory Committee Act, Public Law 92-463, as amended (5 U.S.C. App. II), it has been determined that this Defense Science Board meetings concerns matters listed in 5 U.S.C. 552b(c)(1) and that, accordingly, these meetings will be closed to the public.

Dated: June 26, 2001.
L.M. Bynum,
Alternate OSD Federal Register Liaison Officer, Department of Defense.

[FR Doc. 01-16878 Filed 7-5-01; 8:45 am]

BILLING CODE 5001-08-M